DEPARTMENT OF COMMERCE

National Oceanic and Atmospheric Administration

[RTID 0648-XD406]

Marine Mammals; File No. 27424

AGENCY: National Marine Fisheries Service (NMFS), National Oceanic and Atmospheric Administration (NOAA), Commerce.

ACTION: Notice; receipt of application.

SUMMARY: Notice is hereby given that Point Blue Conservation Science, 3820 Cypress Drive No. 11, Petaluma, CA 94954, (Responsible Party: Grant Ballard, Ph.D.), has applied in due form for a permit to conduct research on five species of pinnipeds.

DATES: Written, telefaxed, or email comments must be received on or before October 30, 2023.

ADDRESSES: The application and related documents are available for review by selecting “Records Open for Public Comment” from the “Features” box on the Applications and Permits for Protected Species (APPS) home page, https://apps.nmfs.noaa.gov, and then selecting File No. 27424 from the list of available applications. These documents are also available upon written request via email to NMFS.Pr1Comments@noaa.gov.

Written comments on this application should be submitted via email to NMFS.Pr1Comments@noaa.gov. Please include File No. 27424 in the subject line of the email comment.

Those individuals requesting a public hearing should submit a written request via email to NMFS.Pr1Comments@noaa.gov. The request should set forth the specific reasons why a hearing on this application would be appropriate.

FOR FURTHER INFORMATION CONTACT: Courtney Smith, Ph.D., or Shasta McClenahan, Ph.D., (301) 427-8401.

SUPPLEMENTARY INFORMATION: The subject permit is requested under the authority of the Marine Mammal Protection Act of 1972, as amended (16 U.S.C. 1361 et seq.), the regulations governing the taking and importing of marine mammals (50 CFR part 216), and the Fur Seal Act of 1966, as amended (16 U.S.C. 1151 et seq.).

The applicant requests a 5-year scientific research permit to study and monitor population trends, health, diet, ecology, and physiology of pinnipeds in the greater Gulf of the Farallones and San Francisco Bay region of California. Up to 210 northern elephant seals (Mirounga angustirostris) and 500 northern fur seals (Callorhinus ursinus) may be captured annually for marking, morphometrics, and biological sampling. An additional 1,355 elephant seals may be marked and swabbed without capture. Up to 1,500 harbor seals (Phoca vitulina), 800 northern elephant seals, 5,320 California sea lions (Zalophus californianus), 155 Steller sea lions (Eumetopias jubatus; Eastern distinct population segment), and 1,500 northern fur seals may be taken or unintentionally harassed annually during ground or unmanned aircraft system surveys, for counts, observation, and scat collection. The applicant also requests up to five unintentional mortalities of northern elephant seals over the duration of the permit, with no more than two annually.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 22, 2023.
Amy Sloan,
Acting Division Chief, Permits and Conservation Division, Office of Protected Resources, National Marine Fisheries Service.

[FR Doc. 2023-21225 Filed 9-27-23; 8:45 am]

BILLING CODE 3510-22-P